DEPARTMENT OF THE INTERIOR

Geological Survey

[GX22EF000COM00; OMB Control Number 1028-0092]

Agency Information Collection Activities; Submission to the Office of Management and Budget for Review and Approval; Topographic and Hydrography Data Grants

AGENCY: U.S. Geological Survey, Interior.

ACTION: Notice of information collection; request for comment.

SUMMARY: In accordance with the Paperwork Reduction Act of 1995, we, the U.S. Geological Survey (USGS) are proposing to renew an information collection with revisions.

DATES: Interested persons are invited to submit comments on or before February 22, 2022.

ADDRESSES: Send written comments on this information collection request (ICR) to the Office of Management and Budget's Desk Officer for the Department of the Interior by email at OIRA_Submission@omb.eop.gov; or via facsimile to (202) 395-5806. Please provide a copy of your comments to the U.S. Geological Survey, Information Collections Clearance Officer, 12201 Sunrise Valley Drive MS 159, Reston, VA 20192; or by email to gs-info_collections@usgs.gov. Please reference OMB Control Number 1028-0092 in the subject line of your comments.

FOR FURTHER INFORMATION CONTACT: To request additional information about this ICR, contact Susan Buto by email at sbuto@usgs.gov, or by telephone at 775-546-3059. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The U.S. Geological Survey gathers topographic data through the 3D Elevation Program (3DEP) and, contingent on funding, the 3D Hydrography Program (3DHP). The primary goal of 3DEP is to systematically collect three-dimensional (3D) elevation data in the form of high-quality light detection and ranging (lidar) data for the conterminous United States, Hawaii, and the U.S. territories, as well as interferometric synthetic aperture radar (IfSAR) data for Alaska. The primary goal of the 3DHP is to leverage 3DEP data to create a high-precision, z-enabled representation of the surface waters of the United States and its territories. The implementation model for 3DEP is based on multi-agency partnership funding for topographic data acquisition, with the USGS leading management of the program to facilitate planning and acquisition, using government contracts and partnership agreements, for the broader community. The USGS issues cooperative agreements with partners to collect topographic data through an annual Broad Agency Announcement (BAA), which is a competitive solicitation issued to facilitate the cooperative collection of lidar and derived elevation data for 3DEP. It has been included in the annual Catalog of Federal Domestic Assistance under USGS 15.8 17. Federal agencies, state and local governments, tribes, academic institutions, and the private sector are eligible to submit proposals. The USGS collects information from applicants about their proposed topographic data collection and cost sharing options? offers? and then uses that information to determine grant awards. Implementation of 3DHP will follow the 3DEP model over time as funding permits. This ICR expands the scope of the collection to include proposals for both the 3DEP and 3DHP BAA activities.

Title of Collection: Topographic Data Grants.

OMB Control Number: 1028-0092.

Form Number: None.

Type of Review: Extension of a currently approved collection with revision.

Respondents/Affected Public: State and local governments, tribes, academic institutions, and the private sector.

Total Estimated Number of Annual Respondents: 80.

Total Estimated Number of Annual Responses: 80.

Estimated Completion Time per Response: 41 hours.

Total Estimated Number of Annual Burden Hours: 3,280.

Respondent's Obligation: Voluntary.

Frequency of Collection: Annually.

Total Estimated Annual Nonhour Burden Cost: None.

An agency may not conduct, sponsor, nor is a person required to respond to, a collection of information unless it displays a currently valid OMB control number.

The authority for this action is the Paperwork Reduction Act of 1995 (44 U.S.C. 3501 et seq).

Michael Tischler,
Director, National Geospatial Program.

[FR Doc. 2021-27647 Filed 12-21-21; 8:45 am]

BILLING CODE 4338-11-P